DEPARTMENT OF HOMELAND SECURITY

U.S. Customs and Border Protection

Vessel Entrance and Clearance Automation Test: Extension of Test

AGENCY: U.S. Customs and Border Protection, Department of Homeland Security.

ACTION: General notice.

SUMMARY: This notice announces that U.S. Customs and Border Protection (CBP) is extending the Vessel Entrance and Clearance Automation Test. This test allows participants to submit the vessel entry and clearance data required on CBP Forms 26, 226, 1300, 1302, 1303, 1304, and 3171, and to make certain entry and clearance requests and reports, to CBP electronically through the Vessel Entrance and Clearance System (VECS).

DATES: The extended test will run for an additional 24 months until February 21, 2027, unless further extended.

ADDRESSES: Written comments concerning this notice and any aspect of the test may be submitted at any time during the test period via email to Brian Sale, Branch Chief, Cargo and Conveyance Security, Manifest Conveyance and Security Division, Office of Field Operations, U.S. Customs and Border Protection, at OFO-ManifestBranch@cbp.dhs.gov. In the subject line of the email, please write “Comments on the Vessel Entrance and Clearance Automation Test.”

FOR FURTHER INFORMATION CONTACT: Brian Sale, Branch Chief, Cargo and Conveyance Security, Manifest Conveyance and Security Division, Office of Field Operations, U.S. Customs and Border Protection, at (202) 325-3338 or OFO-ManifestBranch@cbp.dhs.gov.

SUPPLEMENTARY INFORMATION:

I. Background

U.S. Customs and Border Protection (CBP) regulations generally require that the master or vessel agent ¹ of a commercial vessel submit certain arrival, entrance, and clearance data to CBP when traveling to and from U.S. ports of entry. See part 4 of title 19 of the Code of Federal Regulations (19 CFR part 4). The vessel agent must generally submit this data to CBP on paper forms. Some of the data collected through these forms is redundant or already available to CBP through other required data submission platforms, such as data required by the applicable U.S. Coast Guard (USCG) regulations. See 33 CFR 160.201-216.

¹ For the purposes of this document, “vessel agent” may include a vessel master or commanding officer, authorized agent, operator, owner, consignee, or a third party contracted by the owner or operator of the vessel to prepare and submit entrance and clearance documentation to CBP on behalf of the vessel owner or operator.

On November 21, 2022, CBP published a notice in the Federal Register (87 FR 70850) announcing the Vessel Entrance and Clearance Automation Test (“the Test”). The Test allows for the partial automation and electronic filing of many of CBP's paper-based commercial vessel arrival, entrance, and clearance data collections. Specifically, the Test allows participants to electronically submit to CBP, through the Vessel Entrance and Clearance System (VECS), when seeking to enter into or depart from a designated port, the entrance and clearance data that is collected on CBP Form 1300: Vessel Entrance or Clearance Statement; ² CBP Form 1302: Inward Cargo Declaration; CBP Form 1303: Ship's Stores Declaration; CBP Form 1304: Crew's Effects Declaration; CBP Form 3171: Application-Permit-Special License Unlading-Lading-Overtime Services; CBP Form 26: Report of Diversion; and CBP Form 226: Record of Vessel Foreign Repair or Equipment Purchase.³ The Test also allows participants to make certain entry and clearance requests and reports. Additionally, the Test allows vessel agents to submit required supporting documentation, such as vessel certificates, to CBP electronically. CBP then uses the data and documentation submitted through VECS to process vessel entrances and clearances electronically at designated ports.

² Participants seeking foreign clearance from one of the designated ports during this Test may also submit a paper CBP Form 1300. Alternatively, during the Test, CBP will also accept submissions of CBP Form 1300 by fax or as an email attachment from Test participants, at the discretion of the Port Director. For fax or email submissions, CBP will respond in the same manner.

³ All other CBP forms required for the entrance and clearance of a vessel (e.g., CBP Form 1302A: Cargo Declaration Outward with Commercial Forms; CBP Form I-418: Passenger List-Crew List; and CBP Form 5129: Crew Member's Declaration) are not part of this Test.

The Test is authorized under 19 CFR 101.9(a), which authorizes the CBP Commissioner to impose requirements different from those specified in the CBP regulations for the purposes of conducting a test program or procedure designed to evaluate the effectiveness of new technology or operational procedures regarding the processing of passengers, vessels, or merchandise. The Test assesses the functionality and effectiveness of using VECS to automate the submission of certain vessel entrance and clearance data elements to CBP electronically, instead of requiring the completion and submission of multiple paper forms. VECS prepopulates certain vessel arrival, entrance, and clearance information that Test participants have previously submitted to CBP through other maritime requirements and then prompts participants to enter additional data elements required by the forms, manually. The participant must verify that the information that has been prepopulated into VECS is accurate, correct any inaccurate or incomplete data fields, supply any additional information necessary, and confirm and submit the data to CBP. This technology allows CBP to reduce paperwork burdens and promote greater efficiency since CBP only needs to request data elements once, even when a particular element is needed to satisfy the requirements of multiple different CBP forms on different occasions, and/or the paper format is required in duplicate or triplicate. Furthermore, this Test decreases the time it takes for CBP Officers and the trade community to process an entrance and clearance of a commercial vessel.

The November 21, 2022 Federal Register notice sets forth the eligibility criteria, application process and acceptance, procedures, and misconduct rules regarding the Test, as well as the vessel arrival, entrance, and clearance processes and regulatory requirements to be waived for participants of the Test. For further details, please refer to the November 21, 2022 Federal Register notice. The designated ports where the Test operates are set forth on the Vessel Entrance and Clearance System page on CBP's website, available at https://www.cbp.gov/trade/automated/vecs. All participants must have a Vessel Agency Portal Account in the Automated Commercial Environment (ACE) because it serves as access for Test participants to the VECS platform. For more information and for instructions on how to request an ACE Vessel Agency Portal Account, please visit the Getting Started with CBP Automated Systems page on CBP's website, available at https://www.cbp.gov/trade/automated/getting-started.

II. Extension of the Vessel Entrance and Clearance Automation Test Period

CBP announced in the November 21, 2022 Federal Register notice that the Test would begin no earlier than December 21, 2022 and continue for 24 months from the date the Test actually began. Since the Test began at the Port of Gulfport in Gulfport, Mississippi, on February 21, 2023, it is scheduled to continue until February 21, 2025. CBP also stated that any expansion or extension of the Test would be announced in the Federal Register. Accordingly, this notice announces that CBP is renewing the Test for an additional 24 months to continue to evaluate the feasibility and effectiveness of CBP's capacity to automate CBP Forms 26, 226, 1300, 1302, 1303, 1304, and 3171 through VECS. The extended Test will now operate for an additional 24 months until February 21, 2027, unless further extended.

CBP intends to initiate rulemaking to require the submission of certain vessel arrival, entry, and clearance data to CBP electronically through VECS for all mandated vessels seeking entry into or clearance from U.S. ports after sufficient Test analysis and evaluation are conducted.

III. Applicability of Initial Test Notice

All provisions in the November 21, 2022 Federal Register notice remain applicable, subject to the further extension of the time period provided herein.

IV. Privacy

CBP will ensure that all Privacy Act requirements and applicable policies are adhered to during the continued implementation of this Test.

V. Paperwork Reduction Act

The Paperwork Reduction Act (PRA) of 1995 (44 U.S.C. 3507(d)) requires that CBP consider the impact of paperwork and other information collection burdens imposed on the public. An agency may not conduct, and a person is not required to respond to, a collection of information unless the collection of information displays a valid control number assigned by the Office of Management and Budget (OMB).

This Test does not impose any new information collection requirements; it simply changes the modality through which currently collected information is submitted to CBP. The Vessel Entrance and Clearance Statement (CBP Form 1300) has been approved by OMB in accordance with the requirements of the PRA (44 U.S.C. 3507) under OMB control number 1651-0019. In addition, the following collections of information have been submitted to OMB for review and approval in accordance with the requirements of the PRA (44 U.S.C. 3507): 1651-0025 Report of Diversion (CBP Form 26), 1651-0027 Record of Vessel Foreign Repair or Equipment (CBP Form 226), 1651-0001 Cargo Manifest/Declaration, Stow Plan, Container Status Messages and Importer Security Filing (CBP Form 1302), 1651-0018 Ship's Stores Declaration (CBP Form 1303), 1651-0020 Crew Effects Declaration (CBP Form 1304), 1651-0005 Application-Permit-Special License Unlading/Lading, Overtime Services (CBP Form 3171).

Dated: January 14, 2025.
Diane J. Sabatino,
Acting Executive Assistant Commissioner, Office of Field Operations.

[FR Doc. 2025-03020 Filed 2-24-25; 8:45 am]

BILLING CODE 9111-14-P